DEPARTMENT OF HEALTH AND HUMAN SERVICES

Office of the Secretary

Announcement of Requirements and Registration for “Healthy Young America Video Contest”

AGENCY: Office of the Secretary, Assistant Secretary for Public Affairs, HHS.

ACTION: Notice.

SUMMARY: In an effort to enroll the maximum number of uninsured young Americans into individual health plans in the upcoming open enrollment period, multiple mediums and methods of reaching the uninsured population are necessary. HHS and Young Invincibles are co-sponsoring the “Healthy Young America” Video Contest with two primary goals: First, directly reaching the uninsured population through video views and votes; and second, the production of high-quality videos that can be further promoted to the target population.

DATES: The Contest is open from 10 a.m. Eastern Daylight Time (“EDT”) on August 19, 2013 through 11:59 p.m. EDT on September 23, 2013.

FOR FURTHER INFORMATION CONTACT: Erin Seidler, 202-690-6453; Jason Young, 202-690-5852.

SUPPLEMENTARY INFORMATION: The statutory authority for this challenge competition is Section 105 of the America COMPETES Reauthorization Act of 2010 (Pub. L. 111-358).

Subject of Challenge Competition: This Fall, many young Americans will have more health insurance options available to them than ever before. The Affordable Care Act (ACA) will help more individuals enroll in private health insurance plans. Young Invincibles and the U.S. Department of Health & Human Services have created a competition that will tap into the creativity and energy of young Americans while raising awareness about the new law and encouraging young people to take advantage of the benefits of health insurance.

Eligibility Rules for Participating in the Competition

The Challenge is open to any Contestant, defined as an individual or team of U.S. citizens or permanent residents of the United States who are 13 years of age or older (with the permission of a parent/guardian if under 18 years of age). Contestants may submit more than one entry if they have developed more than one video.

To be eligible to win a prize under this challenge, an individual or entity—

(1) Shall have registered to participate in the competition under the Official Rules for the challenge, available at the Web site described below;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment. Federal employees seeking to participate in this challenge outside the scope of their employment should consult their ethics official prior to developing their submission.

(5) May not be employees of HHS/ASPA or Young Invincibles, judges of the Challenge, or any other party involved with the design, production, execution, or distribution of the Challenge or their immediate family (spouse, parents or step-parents, siblings and step-siblings, and children and step-children).

(6) Shall not be an HHS employee working on their applications or submissions during assigned duty hours.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

By participating in this Challenge, Contestants agree to the Warranty, Indemnification and Limitations of Liability provided for in the Official Rules.

First Contest: Invincibility Theme

The first contest will focus around the theme of the invincibility myth and young people. It will be focused on demonstrating why all young people need health insurance and how it's useful for active and healthy people. The two primary hooks for launch videos will be sports and pranks gone wrong.

Second Contest: Music & Culture Theme

The second contest will focus on the benefits of health insurance broadly. Video submissions will be focused around music. They can be original songs, autotuned videos, covers of popular songs, music videos, or other such similar styles. Primary hook videos will be around similar themes.

Third Contest: Animation

The third contest will be educational-styled videos focused on using motion graphics, infographics, and Active Type to make heavily stylized videos about facts related to the Affordable Care Act and open enrollment.

The Contest is open from 10 a.m. Eastern Daylight Time (“EDT”) on August 19, 2013 through 11:59 p.m. EDT on September 23, 2013.

Video Requirements

The purpose of this Contest is to raise awareness of the Patient Protection and Affordable Care Act, specifically as it relates to Americans aged 18 through 34. Videos should promote that general purpose, as well as be consistent with the criteria of the category in which they are submitted.

In addition, Videos:

• Must meet the category's stated time criteria, must not exceed 100MB max file size, and must be in MP4 or .MOV formats;

• Must be the Creator's own work product, and may not contain any third party material unless the Entrant has obtained all necessary rights to use that material;

• Must not be unlawful, threatening, abusive, harassing, defamatory, libelous, deceptive, fraudulent, invasive of another's privacy, tortious, or contain explicit or graphic descriptions or accounts of sexual acts, or otherwise contain any other content that Sponsors deem to be objectionable;

• Must not victimize, harass, degrade, or intimidate an individual or group of individuals on the basis of religion, gender, sexual orientation, race, ethnicity, age, or disability;

• Must not contain an advertisement, solicitation, or other commercial content;

• Must meet all terms of these Official Rules;

• Must not have been previously entered into any other video contest, regardless of previous contest outcome, or published in any medium.

Registration Process for Participants

Entries must be submitted through the Contest Site at www.healthyyoungamerica.org. Interested persons should read the Official Rules posted on the Challenge site, www.healthyyoungamerica.org. All information in the entry form must be completed.

Prize: There will be four types of prizes awarded in the Contest: (1) Early Bird Rewards, (2) an Early Bird Prize, (3) Finalist Prizes, and (4) the Grand Prize. Cash prizes will be paid by check, made out to the Entrant of record. The odds of winning will depend on the number of entries received.

(1) Early Bird Rewards

The Early Bird Rewards will be awarded to the first 100 Entrants.

(2) Early Bird Prize

In addition, the Judges will select one Early Bird Prize winner from among those submitting valid entries by 11:59PM EDT on September 2, 2013. The Early Bird prize is $1,500.

(3) The Finalist Prizes

The first place Finalist Prize in each category is $3000. Second and third place Finalist Prizes are $2500 each.

(4) Grand Prize

The Grand Prize is an additional $2000. In addition, the Grand Prize winner will be invited to the announcement event in October at a location to be decided.

Basis Upon Which Winner Will Be Selected

The judging panel will make selections based upon the following criteria:

You Are Not Invincible (30-60 seconds)

Videos in this category should convey the need for young people (ages 18-35) to have health insurance and must feature or touch upon the idea that young people are not invincible. Evaluated on creativity, originality, production value, and use of humor.

Perform a Song (30-90 seconds)

Express the necessity for young people to have health insurance in a fun and memorable way through music. Evaluated on creativity in addressing the benefits of health insurance, originality, production value, use of humor, and memorability.

Animation (not over three minutes)

• Include motion graphics, infographics, and/or Active Type

• Include at least four of the following facts:

○ You can stay on your parents' plan until age 26

○ Insurers cannot drop you if you get sick or deny you coverage if you have a pre-existing condition

○ As of October 1st 2013, insurers will compete for your business on new online health insurance marketplaces (located at healthcare.gov) like airlines do on travel Web sites

○ Discounts will be provided to help purchase health insurance for individuals who earn roughly $46,000 or less

○ You could even be eligible for free health insurance through Medicaid if you earn roughly $15,000 or less

○ Starting in 2014, almost everyone will be required to have insurance

• Include at least 3 of the following facts:

○ There will be a variety of plans and benefits to choose from

○ Preventive care is covered at no additional cost to the you

○ Women cannot be charged more than men based on their gender

○ There are no annual or lifetime limits on coverage

○ Insurance companies have to spend at least 80% of the premium dollars you pay on health services, rather than advertising or profits

○ Plans must cover FDA-approved contraceptive methods for women at no extra cost to you

• Include at least 2 of these facts:

○ Over Nearly 20 million young adults (ages 18-35) across the country lack basic health insurance coverage

○ 3 million previously uninsured young adults have joined their parents' health insurance plan.

○ Three-quarters of Americans (ages 19-29) will be eligible for free or discounted health insurance

○ Young people have the highest rate of injury-related emergency department visits among all age groups

Videos in this category may present the facts using different wording and/or in a different order. Evaluated on creativity employing the required facts, originality, production value, and visual engagement.

Additional Information

Regarding Copyright/Intellectual Property: Upon Submission, each Contestant or Entrant warrants that he or she is the sole owner of the submission, that the Submission is wholly original with the Contestant and does not infringe on any copyright or any other rights of any third party of which the Contestant is aware.

Submission Rights

By participating in this Challenge, Contestant grants to the contest sponsors rights in contest entries as specified in the Official Rules available at www.healthyyoungamerica.org.

Compliance with Rules and Contacting Contest Winners

Finalists and the Contest Winners must comply with all terms and conditions of the Official Rules, and winning is contingent upon fulfilling all applicable requirements. Awards may be subject to Federal income taxes, and the contest sponsors will comply with the Internal Revenue Service withholding and reporting requirements, where applicable.

General Conditions

The Sponsors reserve the right to cancel, suspend, and/or modify the Challenge, or any part of it, for any reason, at the sponsors' sole discretion. Participation in this Challenge constitutes a contestant's full and unconditional agreement to abide by the Challenge's Official Rules. available at www.healthyyoungamerica.org.

Authority: 15 U.S.C. 3719.

Dated: August 16, 2013.
Dori Salcido,
Assistant Secretary for Public Affairs.

[FR Doc. 2013-20468 Filed 8-19-13; 11:15 am]

BILLING CODE 4150-45-P